DEPARTMENT OF AGRICULTURE

Foreign Agricultural Service

Notice of a Request for a Reinstatement of a Currently Approved Information Collection

AGENCY: Foreign Agricultural Service, USDA.

ACTION: Notice and request for comment.

SUMMARY: In accordance with the Paperwork Reduction Act of 1995, this notice announces that the Foreign Agricultural Service (FAS) intends to reinstate a currently approved information collection procedure for the Trade Adjustment Assistance for Farmers program as described in 7 CFR Part 1580.

DATES: Comments on this notice must be received by no later than November 12, 2013 to be assured of consideration.

ADDRESSES: We invite you to submit comments as requested in this notice. In your comment, include the Regulation Identifier Number (RIN) and volume, date, and page number of this issue of the Federal Register. You may submit comments by any of the following methods:

• Federal eRulemaking Portal: Go to http://www.regulations.gov. Follow the online instructions for submitting comments.

• Mail, hand delivery, or courier: Peter W. Burr, Branch Chief, Export Sales Reporting Branch, Import Policies and Export Reporting Division, Office of Trade Programs, Foreign Agricultural Service, 1400 Independence Avenue SW., Washington, DC 20250-1021, STOP 1021; or by email at Pete.Burr@fas.usda.gov; or by telephone at (202) 720-3274; or fax to (202) 720-0876. Comments will be available for inspection online at http://www.regulations.gov and at the mail address listed above between 8:00 a.m. and 4:30 p.m., Monday through Friday, except holidays. Persons with disabilities who require an alternative means for communication of information (Braille, large print, audiotape, etc.) should contact USDA's Target Center at (202) 720-2600 (voice and TDD).

Confidentiality

All submitted comments and attachments are part of the public record and subject to disclosure. Do not enclose any material in your comments that you consider to be confidential or that is inappropriate for public disclosure.

FOR FURTHER INFORMATION CONTACT: Peter W. Burr, Import Policies and Export Reporting Division, Office of Trade Programs, Foreign Agricultural Service, U.S. Department of Agriculture, STOP 1021, 1400 Independence Avenue SW., Washington, DC 20250-1021, (202) 720-3274., or email Pete.Burr@fas.usda.gov.

SUPPLEMENTARY INFORMATION:

Title: Trade Adjustment Assistance for Farmers.

OMB Number: 0551-0040.

Expiration Date of Approval: June 30, 2013.

Type of Request: Reinstatement of currently approved information collection.

Abstract: The American Recovery and Reinvestment Act of 2009 reauthorized and modified the Trade Adjustment Assistance for Farmers program as established by Subtitle C of Title I of the Trade Act of 2002, which amended the Trade Act of 1974. The Omnibus Trade Act of 2010 and the Trade Adjustment Assistance Extension Act of 2011 further amended the Trade Act of 1974. Under this program, the U.S. Department of Agriculture (USDA) provides technical assistance and cash benefits to eligible producers of raw agricultural commodities and fishermen when the Foreign Agricultural Service (FAS) Administrator determines that increased imports of raw agricultural commodities, aquaculture products, or wild-caught aquatic species (jointly referred to as “agricultural commodities”) have contributed importantly to a greater than 15 percent decrease in the national average price, or quantity of production, or value of production, or cash receipts for the agricultural commodity specified in the certified petition compared to the average of the three preceding marketing years. The regulation at 7 CFR Part 1580 establishes the procedure by which producers of raw agricultural commodities can petition (form FAS-930 or a reasonable substitute) for certification of eligibility and apply for technical assistance and cash payments. To receive consideration for TAA for Farmers certification, petitioners must supply the information required by 7 CFR 1580.203. Once a petition has been certified, individuals covered by the certification must apply for TAA for Farmers benefits in accordance with 7 CFR 1580.301. The specific information required on an application (form FSA-229) must be collected from those who wish to receive program benefits.

Estimate Number of Respondents: 1,000.

Estimate Number of Responses per Respondent: 1.

Estimated Burden of Hours per Response: 14 hours.

Estimated Total Annual Burden on Respondents: 14,000 hours.

Request for Comments: The public is invited to submit comments and suggestions to the above address regarding the accuracy of the burden, estimate, ways to minimize the burden, including through the use of automated collection techniques or other forms of information technology, or any other aspect of this collection of information. Comments on the issues covered by the Paperwork Reduction Act are most useful to OMB if received within 30 days of publication of the Notice and Request for Comments, but must be submitted no later than 60 days from the date of publication to be assured of consideration. All responses to this notice will be summarized and included in the request for OMB approval. All comments will also become a matter of public record.

FAS is committed to complying with the Government Paperwork Reduction Act which requires Government agencies, to the maximum extent feasible, to provide the public the option of electronically submitting information collection.

Signed at Washington, DC, on August 8, 2013.
Philip C. Karsting,
Administrator, Foreign Agricultural Service.

[FR Doc. 2013-22375 Filed 9-12-13; 8:45 am]

BILLING CODE 3410-10-P